DEPARTMENT OF ENERGY

Federal Energy Regulatory Commission

[Project No. 1494-448]

Notice of Application for Amendment of License and Soliciting Comments, Motions To Intervene, and Protests: Grand River Dam Authority

Take notice that the following hydroelectric application has been filed with the Commission and is available for public inspection:

a. Application Type: Amendment to extend the license term, modify the current process plan and integrated licensing process schedule, amend the November 8, 2018 Study Plan Determination, and extend the deadlines for filing revised Exhibit G drawings and an updated Shoreline Management Plan.

b. Project Number: 1494-448.

c. Date Filed: May 21, 2019.

d. Applicant: Grand River Dam Authority.

e. Name of Project: Pensacola Hydroelectric Project.

f. Location: The project is located on the Grand (Neosho) River in Craig, Delaware, Mayes, and Ottawa Counties, Oklahoma.

g. Filed Pursuant to: Federal Power Act, 16 U.S.C. 791(a)-825(r).

h. Applicant Contact: Ms. Jacklyn Jaggars, Director of Hydropower Projects, Grand River Dam Authority, P.O. Box 70, Langley, OK 74350; (918) 256-0723; jjaggars@grda.com.

i. FERC Contacts: Rachel McNamara; (202) 502-8340; Rachel.McNamara@ferc.gov.

j. Deadline for filing comments, motions to intervene, and protests is 30 days from the issuance date of this notice by the Commission. The Commission strongly encourages electronic filing. Please file motions to intervene, protests, and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-1494-448. Comments emailed to Commission staff are not considered part of the Commission record.

k. Description of Filing: Grand River Dam Authority (GRDA), is requesting to extend the project's license term from March 31, 2022 to December 31, 2026, modify the relicensing process plan and schedule, amend the November 8, 2018 Study Plan Determination, and extend the deadlines for filing revised Exhibit G drawings and an updated Shoreline Management Plan.

At present, GRDA is required to file a final application for a new license by March 31, 2020, two years prior to license expiration. GRDA requests an extension of the existing license and modification of the relicensing process plan and schedule to: (1) Account for a delay that occurred in initiating the relicensing process; (2) provide additional time for GRDA to complete the required bathymetric survey of Grand Lake and its tributaries; and (3) provide sufficient time for GRDA to incorporate complete results from the required studies and consultation with stakeholders in its preliminary licensing proposal or draft license application. In addition, GRDA proposes that the deadlines required under its current license to file an updated Shoreline Management Plan and revised Exhibit G drawings be extended to coincide with the filing of the final application for a new license.

l. Locations of Applications: A copy of the application is available for inspection and reproduction at the Commission's Public Reference Room, located at 888 First Street NE, Room 2A, Washington, DC 20426, or by calling (202) 502-8371. This filing may also be viewed on the Commission's website at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

m. Individuals desiring to be included on the Commission's mailing list should do so by writing to the Secretary of the Commission.

n. Comments, Protests, or Motions To Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents: All filings must (1) bear in all capital letters the title “PROTEST”, “MOTION TO INTERVENE”, or “COMMENTS;” (2) set forth in the heading the name of the applicant and the project number of the application to which the filing responds; (3) furnish the name, address, and telephone number of the person protesting or intervening; and (4) otherwise comply with the requirements of 18 CFR 385.2001 through 385.2005. All comments, motions to intervene or protests must set forth their evidentiary basis and otherwise comply with the requirements of 18 CFR 4.24(b). All comments, motions to intervene, or protests should relate to the amendment application. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: June 11, 2019.
Kimberly D. Bose,
Secretary.

[FR Doc. 2019-12737 Filed 6-14-19; 8:45 am]

BILLING CODE 6717-01-P